FEDERAL COMMUNICATIONS COMMISSION

47 CFR Part 73

[DA 05-704; MB Docket No. 05-109, RM-11192; MB Docket No. 05-110, RM-11193; and MB Docket No. 05-111, RM-11200]

Radio Broadcasting Services; Cumberland Head, NY; Mojave and Trona, CA; and Haileyville and Stringtown, OK

AGENCY: Federal Communications Commission.

ACTION: Proposed rule.

SUMMARY: This document sets forth three proposals to amend the FM Table of Allotments, Section 73.202(b) of the Commission's rules, 47 CFR 73.202(b). The Commission requests comment on a petition filed by Dana J. Puopolo. Petitioner proposes the allotment of Channel 255A at Mojave, California, as a third local service. Channel 255A can be allotted at Mojave in compliance with the Commission's minimum distance separation requirements with a site restriction of 10.3 km (6.4 miles) northeast of Mojave. The proposed coordinates for Channel 255A at Mojave are 35-06-07 North Latitude and 118-04-41 West Longitude. In addition, in order to accommodate the allotment of Channel 255A at Mojave, Petitioner further proposes to substitute Channel 247A for vacant Channel 255A at Trona, California, and to change the FM Table of allotments at Trona, California, by deleting Channel 255A and adding Channel 247A. The proposed coordinates for Channel 247A at Trona, California, are 35-45-46 NL and 117-22-19 WL. The allotment can be allotted at center city reference coordinates without site restriction. See Supplementary Information infra.

DATES: Comments must be filed on or before May 9, 2005, and reply comments on or before May 24, 2005.

ADDRESSES: Federal Communications Commission, Washington, DC 20554. In addition to filing comments with the FCC, interested parties should serve the designated petitioner as follows: Dana J. Puopolo, 2134 Oak Street, Unit C, Santa Monica, California 90495; Charles Crawford, 4553 Bordeaux Avenue, Dallas, Texas 75205.

FOR FURTHER INFORMATION CONTACT: Deborah A. Dupont, Media Bureau (202) 418-7072.

SUPPLEMENTARY INFORMATION: This is a synopsis of the Commission's Notice of Proposed Rule Making, MB Docket Nos. 05-109, 05-110, and 05-111, adopted March 16, 2005, and released March 18, 2005. The full text of this Commission document is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Commission further requests comment on a petition filed by Charles Crawford. Petitioner proposes the allotment of Channel 290A at Stringtown, Oklahoma, as a first local service. Channel 290A can be allotted at Stringtown in compliance with the Commission's minimum distance separation requirements with a site restriction of 10.0 km (6.2 miles) southwest of Stringtown. The proposed coordinates for Channel 290A at Stringtown are 34-23-04 North Latitude and 96-05-51 West Longitude. In addition, in order to accommodate the allotment of Channel 290A at Stringtown, Petitioner further proposes to substitute Channel 252A for vacant Channel 290A at Haileyville, Oklahoma, and to change the FM Table of allotments at Haileyville by deleting Channel 290A and adding Channel 252A. The proposed coordinates for Channel 252A at Haileyville, Oklahoma, are 34-45-18 NL and 95-38-24 WL. The allotment requires a site restriction of 12.2 km (7.6 miles) southwest of Haileyville.

The Commission further requests comment on a petition filed by Dana J. Puopolo. Petitioner proposes the allotment of Channel 264A at Cumberland Head, New York, as a first local service. Channel 264A can be allotted at Cumberland in compliance with the Commission's minimum distance separation requirements with a site restriction of 6.6 km (4.1 miles) east of Cumberland Head. The proposed coordinates for Channel 264A at Cumberland are 44-43-12 North Latitude and 73-19-12 West Longitude. Concurrence in a specially negotiated allotment by the Government of Canada is required because the proposed allotment is located within 320 kilometers (199 miles) of the U.S.-Canadian border and would be short-spaced to Station CBF(FM), Channel 264C1, Montreal, Quebec, Canada.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under California, is amended by adding Channel 255A at Mojave, by removing Channel 255A and by adding Channel 247A at Trona.

3. Section 73.202(b), the Table of FM Allotments under New York, is amended by adding Cumberland Head, Channel 264A.

4. Section 73.202(b), the Table of FM Allotments under Oklahoma, is amended by removing Channel 290A and adding Channel 252A at Haileyville and by adding Stringtown, Channel 290A.

Federal Communications Commission.
John A. Karousos,
Assistant Chief, Audio Division, Media Bureau.

[FR Doc. 05-6552 Filed 4-5-05; 8:45 am]

BILLING CODE 6712-01-P